INTERNATIONAL TRADE COMMISSION

[Inv. No. 337-TA-494]

In the Matter of Certain Automotive Measuring Devices, Products Containing Same, and Bezels for Such Devices; Notice of Issuance of a Limited Exclusion Order and a Cease and Desist Order

AGENCY: U.S. International Trade Commission.

ACTION: Notice.

SUMMARY: Notice is hereby given that the U.S. International Trade Commission has issued a limited exclusion order and a cease and desist order in the above-captioned investigation.

FOR FURTHER INFORMATION CONTACT: Michael Liberman, Esq., Office of the General Counsel, U.S. International Trade Commission, 500 E Street, SW., Washington, DC 20436, telephone 202-205-3115. Copies of the public version of the IDs and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on June 20, 2003, based on a complaint filed by Auto Meter Products, Inc. (“Auto Meter”) of Sycamore, Illinois. 68 FR 37023. The complaint alleged violations of section 337 of the Tariff Act of 1930 in the importation and sale of certain automotive measuring devices, products containing same, and bezels for such devices, by reason of infringement of U.S. Registered Trademark Nos. 1,732,643 and 1,497,472, and U.S. Supplemental Register No. 1,903,908, and infringement of the complainant's trade dress. The complaint alleged that twelve respondents violated section 337. Subsequently, seven more firms were added as respondents. 68 FR 75280 (Dec 30, 2003); 69 FR 2732 (January 20, 2004).

The investigation was terminated as to all respondents on the basis of consent orders and/or settlement agreements except as to the following five respondents who have been found in default: Tenzo R, dba Autotech Systems and Accessories, of Santa Clarita, California (“Tenzo”); Auto Gauge Co., Ltd., of Taipei, Taiwan (“AGT”); Dynamik Exhaust Industry Co., Ltd., of Taipei, Taiwan (“Dynamik”); Modern Work, Inc. of Taipei, Taiwan (“Modern Work”), and LPL Trans Trade Co. of Taipei, Taiwan (“LPL”) (collectively, “defaulting respondents”).

Having determined that a violation of section 337 has occurred, and having reviewed the record in this investigation, including the written submissions of the parties, the Commission has made its determination on the issues of remedy, the public interest, and bonding. The Commission has determined that the appropriate form of relief is (1) a limited exclusion order prohibiting the unlicensed entry of automotive measuring devices and products containing same, and bezels for such devices, that misappropriate Auto Meter's trade dresses and infringe its trademarks and that are manufactured abroad by or on behalf of, or imported by or on behalf of, the defaulting respondents; and (2) a cease and desist order directed to the U.S. respondent Tenzo. Specifically, the limited exclusion order prohibits the above described importation by respondents AGT and Dynamik with respect to the Logo Trademark, the Auto Gage Trademark, the Super Bezel trademark and trade dress, and the Monster Tachometer trade dress. The limited exclusion order prohibits such importation by respondent Tenzo with respect to the Super Bezel and Monster Tachometer trade dresses. It also prohibits such importation by respondent Modern Work with respect to the Monster Tachometer trade dress, and by respondent LPL with respect to the Super Bezel trade dress. The cease and desist order mandates that the U.S. respondent Tenzo cease and desist from conducting any of the following activities in the United States: importing, selling, advertising, distributing, marketing, consigning, transferring (except for exportation), offering for sale in the United States, and soliciting U.S. agents or distributors for certain automotive measuring devices and products containing same, and bezels for such devices, in violation of section 337 of the Tariff Act of 1930, as amended, 19 U.S.C. 1337.

The Commission has further determined that the public interest factors enumerated in section 337(g)(1), 19 U.S.C. 1337(g)(1), do not preclude issuance of the limited exclusion order and the cease and desist order, and that the bond during the Presidential review period shall be in the amount of 100 percent of the entered value of the imported articles.

The authority for the Commission's determination is contained in section 337 of the Tariff Act of 1930, as amended (19 U.S.C. 1337), and in section 210.16 of the Commission's Rules of Practice and Procedure (19 CFR 210.16).

Issued: January 24, 2005.
By order of the Commission.
Marilyn R. Abbott,
Secretary to the Commission.

[FR Doc. 05-1486 Filed 1-26-05; 8:45 am]

BILLING CODE 7020-02-P